DEPARTMENT OF LABOR

Employment and Training Administration

[TA-W-38,768]

Loogootee Manufacturing, Loogootee, IN; Notice of Termination of Investigation

Pursuant to section 221 of the Trade Act of 1974, an investigation was initiated on March 5, 2001 in response to a petition filed on behalf of workers at Loogootee Manufacturing, Loogootee, Indiana.

The petitioner has requested that the petition be withdrawn. Consequently, further investigation in this case would serve no purpose, and the investigation has been terminated.

Signed in Washington, DC this 10th day of May, 2001.
Linda G. Poole,
Certifying Officer, Division of Trade Adjustment Assistance.

[FR Doc. 01-13225 Filed 5-24-01; 8:45 am]

BILLING CODE 4510-30-M